DEPARTMENT OF HEALTH AND HUMAN SERVICES

National Institutes of Health

Prospective Grant of Exclusive License: Devices for Clearing Mucus From Endotracheal Tubes

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of a worldwide exclusive license, to practice the invention embodied in: HHS Ref. No. E-061-2004/0 “Mucus Shaving Apparatus for Endotracheal Tubes”; U.S. Patent 7,051,737 to EndOclear, LLC, a company incorporated under the laws of the State of Michigan having its headquarters in Petoskey, Michigan. The United States of America is the assignee of the rights of the above inventions. The contemplated exclusive license may be granted in a field of use limited to devices for clearing mucus from endotracheal tubes.

DATES: Only written comments and/or applications for a license received by the NIH Office of Technology Transfer on or before September 23, 2011 will be considered.

ADDRESSES: Requests for a copy of the patent application, inquiries, comments and other materials relating to the contemplated license should be directed to: Michael A. Shmilovich, Esq., Office of Technology Transfer, National Institutes of Health, 6011 Executive Boulevard, Suite 325, Rockville, MD 20852-3804; Telephone: (301) 435-5019; Facsimile: (301) 402-0220; E-mail: shmilovm@mail.nih.gov. A signed confidentiality nondisclosure agreement will be required to receive copies of any patent applications that have not been published or issued by the United States Patent and Trademark Office or the World Intellectual Property Organization.

SUPPLEMENTARY INFORMATION: The patent intended for licensure covers an endotracheal tube cleaning apparatus which is inserted into the inside of an endotracheal tube to shave away mucus deposits. Mucus deposits contribute to bacterial growth and put intubated patients at risk for ventilator associated pneumonia (VAP). The preferred embodiment as recited in the claims is a cleaning apparatus with a flexible central tube and an inflatable balloon at its distal end. Affixed to the inflatable balloon are one or more shaving rings each having a squared leading edge to shave away mucus accumulations. In operation, the uninflated cleaning apparatus is inserted into the endotracheal tube and the balloon is then inflated by a suitable inflation device, such as a syringe, until the balloon's shaving rings are pressed against the inside surface of the endotracheal tube. The cleaning apparatus is then pulled out of the endotracheal tube to shave off mucus deposits.

The prospective exclusive license will be royalty bearing and will comply with the terms and conditions of 35 U.S.C. 209 and 37 CFR 404.7. The prospective exclusive license may be granted unless, within thirty (30) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: August 16, 2011.
Richard U. Rodriguez,
Director, Division of Technology Development and Transfer, Office of Technology Transfer, National Institutes of Health.

[FR Doc. 2011-21685 Filed 8-23-11; 8:45 am]

BILLING CODE 4140-01-P